ENVIRONMENTAL PROTECTION AGENCY

40 CFR Part 52

[EPA-R04-OAR-2017-0557; FRL-9974-46-Region 4]

Air Plan Approval; SC; VOC Definition

AGENCY: Environmental Protection Agency (EPA).

ACTION: Proposed rule.

SUMMARY: On September 5, 2017, the State of South Carolina, through the South Carolina Department of Health and Environmental Control (SC DEHC), submitted changes to the South Carolina State Implementation Plan (SIP). Specifically, the revision pertains to the modification of the definition of “volatile organic compounds” (VOCs). EPA is proposing to approve the SIP revision because the State has demonstrated that these changes are consistent with the Clean Air Act (CAA or Act).

DATES: Written comments must be received on or before March 19, 2018.

ADDRESSES: Submit your comments, identified by Docket ID No. EPA-R04-OAR-2017-0557 at http://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Richard Wong, Air Regulatory Management Section, Air Planning and Implementation Branch, Air, Pesticides and Toxics Management Division, U.S. Environmental Protection Agency, Region 4, 61 Forsyth Street SW, Atlanta, Georgia 30303-8960. The telephone number is (404) 562-8726. Mr. Wong can be reached via electronic mail at wong.richard@epa.gov.

SUPPLEMENTARY INFORMATION:

I. Background

In this rulemaking, EPA is proposing to approve changes to the South Carolina SIP, submitted by the State on September 5, 2017. The submission revises Regulation 61-62.1—Definitions and General Requirements, by removing the recordkeeping, emissions reporting, photochemical dispersion modeling, and inventory requirements for t-Butyl acetate.

Tropospheric ozone, commonly known as smog, occurs when VOCs and nitrogen oxides (NOX) react with sunlight in the atmosphere. Because of the harmful health effects of ozone, EPA limits the amount of VOCs and NOX that can be released into the atmosphere. VOCs are those compounds of carbon (excluding carbon monoxide, carbon dioxide, carbonic acid, metallic carbides or carbonates, and ammonium carbonate) that participate in atmospheric photochemical reactions. Different VOCs have different levels of reactivity; they do not react at the same speed or form ozone to the same extent.

EPA determines whether a given carbon compound has “negligible” reactivity by comparing the compound's reactivity to the reactivity of ethane. It has been EPA's policy that compounds of carbon with negligible reactivity need not be regulated to reduce ozone. See 42 FR 35314, July 8, 1977. EPA lists these compounds in its regulations at 40 CFR 51.100(s) and excludes them from the definition of VOC. The chemicals on this list are often called “negligibly reactive.” EPA may periodically revise the list of negligibly reactive compounds to add or delete compounds.

On November 29, 2004 (69 FR 69298), EPA issued a final rule revising the definition of VOCs at 40 CFR 51.100(s) by adding tertiary butyl acetate (or t-Butyl acetate or TBAC) to the list of compounds that are considered to be negligibly reactive and excluded from the definition of VOCs. Additionally, on February 25, 2016 (81 FR 9339), EPA issued a final rule further revising the definition of VOC at 40 CFR 51.100(s) by removing the recordkeeping, emissions reporting, photochemical dispersion modeling, and inventory requirements for t-Butyl acetate. EPA removed these requirements in part because there was no evidence that TBAC was being used at levels that cause concern for ozone formation and because the data that had been collected under these requirements had proven to be of limited utility in judging the cumulative impacts of exempted compounds.¹ 81 FR 9339, 9341.

¹ In the 2016 EPA rule, EPA also discussed the efforts surrounding any future determinations about the health risks associated with TBAC, including noting that data collected through the recordkeeping and reporting requirements did not appear relevant to any such future determinations and that EPA was assessing the health risks from TBAC through its Integrated Risk Information System. This effort is on-going and more information regarding health risks may be found at EPA's previous 2016 rulemaking (81 FR 9339, 9341).

II. EPA's Analysis of South Carolina's SIP Revision

The State's September 5, 2017, SIP revision removes the recordkeeping, emissions reporting, photochemical dispersion modeling, and inventory requirements for t-Butyl acetate.² The revision removes Regulation 61-62.1 paragraph 100(c). EPA is proposing to approve the revision because it is consistent with the definition of VOC at 40 CFR 51.100(s) and satisfies CAA section 110(l) requirements.

² EPA previously approved a SIP revision from South Carolina which revised its definition of VOC to add t-Butyl acetate to the list of negligibly reactive compounds (72 FR 30704).

Pursuant to CAA section 110(l), the Administrator shall not approve a revision of a plan if the revision would interfere with any applicable requirement concerning attainment and reasonable further progress, or any other applicable requirement of the Act. EPA proposes to find that the State's removal of the recordkeeping, emissions reporting, photochemical dispersion modeling, and inventory requirements for t-Butyl acetate is approvable under section 110(l) because it reflects changes to Federal regulations based on findings that TBAC is negligibly reactive, that there was no evidence that TBAC was being used at levels that cause concern for ozone formation, and that the data that had been collected under these reporting, recordkeeping, modeling, and inventory requirements had proven to be of limited utility in judging the cumulative impacts of exempted compounds, like TBAC.³

³ This current proposed rulemaking does not, and is not intended to, reopen any prior final EPA rulemaking or findings made therein, including EPA's 2004 final rule (69 FR 69298) and EPA's 2016 final rule (81 FR 9339).

III. Incorporation by Reference

In this rule, EPA is proposing to include in a final EPA rule regulatory text that includes incorporation by reference. In accordance with requirements of 1 CFR 51.5, EPA is proposing to incorporate by reference Regulation 61-62.1—Definitions and General Requirements, effective August 25, 2017. EPA has made, and will continue to make, these materials generally available through www.regulations.gov and at the EPA Region 4 office (please contact the person identified in the FOR FURTHER INFORMATION CONTACT section of this preamble for more information).

IV. Proposed Action

EPA is proposing to approve South Carolina's September 5, 2017, submission submitted by the State of South Carolina through SC DEHC. The submission revises Regulation 61-62.1—Definitions and General Requirements.

V. Statutory and Executive Order Reviews

Under the CAA, the Administrator is required to approve a SIP submission that complies with the provisions of the Act and applicable Federal regulations. See 42 U.S.C. 7410(k); 40 CFR 52.02(a). Thus, in reviewing SIP submissions, EPA's role is to approve state choices, provided that they meet the criteria of the CAA. This action merely proposes to approve state law as meeting Federal requirements and does not impose additional requirements beyond those imposed by state law. For that reason, this proposed action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866.

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this proposed rule for South Carolina does not have Tribal implications as specified by Executive Order 13175 (65 FR 67249, November 9, 2000), because it does not have substantial direct effects on an Indian Tribe. The Catawba Indian Nation Reservation is located within the state of South Carolina. Pursuant to the Catawba Indian Claims Settlement Act, S.C. Code Ann. 27-16-120, “all state and local environmental laws and regulations apply to the [Catawba Indian Nation] and Reservation and are fully enforceable by all relevant state and local agencies and authorities.” EPA notes this action will not impose substantial direct costs on Tribal governments or preempt Tribal law.

List of Subjects in 40 CFR Part 52

Environmental protection, Air pollution control, Incorporation by reference, Intergovernmental relations, Nitrogen dioxide, Ozone, Particulate matter, Reporting and recordkeeping requirements, Volatile organic compounds.

Authority: 42 U.S.C. 7401 et seq.

Dated: February 6, 2018.
Onis “Trey” Glenn, III,
Regional Administrator, Region 4.

[FR Doc. 2018-03079 Filed 2-14-18; 8:45 am]

BILLING CODE 6560-50-P